ENVIRONMENTAL PROTECTION AGENCY

40 CFR Part 51

[FRL-6542-9]

RIN 2060-AH10

Technical Amendment to the Finding of Significant Contribution and Rulemaking for Certain States for Purposes of Reducing Regional Transport of Ozone

AGENCY: Environmental Protection Agency (EPA).

ACTION: Final rule; technical amendment.

SUMMARY: The EPA is revising the nitrogen oxides (NOX) statewide emissions budgets for the 22 States and the District of Columbia which are required to submit State implementation plan (SIP) revisions to address the regional transport of ozone (also referred to as the NOX SIP call) (63 FR 57356, October 27, 1998). These revisions are mainly based on comments received for emissions inventory revisions to 2007 baseline information used to establish each State's budget during the comment periods for both the NOX SIP call and the “Technical Amendment to the Finding of Significant Contribution and Rulemaking for Certain States for Purposes of Reducing Regional Transport of Ozone” which was published on May 14, 1999. Some revisions were made based on comments received after the comment periods but deemed to be technically justified.

EFFECTIVE DATE: This rule is effective April 3, 2000.

ADDRESSES: Dockets containing information relating to this rulemaking (Docket Nos. A-96-56, A-97-43, and A-98-12) are available for public inspection at the Office of Air and Radiation Docket and Information Center (6102), U.S. Environmental Protection Agency, 401 M St., SW, Room M-1500, Washington, DC 20460, telephone (202) 260-7548, between 8:00 a.m. and 5:30 p.m., Monday through Friday, excluding legal holidays. A reasonable fee may be charged for copying. Docket materials may be sent by electronic mail to A-and-R-Docket@epa.gov. Documents related to this notice are available on EPA's website at http://www.epa.gov/ttn/oarpg/otagsip.html, and http://www.epa.gov/ttn/rto/.

FOR FURTHER INFORMATION CONTACT: General questions concerning today's technical amendment should be addressed to Jan King, Office of Air Quality Planning and Standards, Air Quality Strategies and Standards Division, MD-15, Research Triangle Park, NC 27711, telephone (919) 541-5665; e-mail: king.jan@epa.gov. Specific questions on the revised NOX emissions budgets should be directed to Gregory Stella, Office of Air Quality Planning and Standards, Emissions Monitoring and Analysis Division, MD-14, Research Triangle Park, NC 27711, telephone (919) 541-3649; e-mail: stella.greg@epa.gov. Specific questions on the electric generating unit (EGU) sector should be directed to Kevin Culligan, Office of Atmospheric Programs, Clean Air Markets Division, 401 M Street SW, 6204J, Washington, D.C., 20460, telephone (202) 564-9172; e-mail; culligan.kevin@epa.gov.

SUPPLEMENTARY INFORMATION: By notice dated October 27, 1998, EPA published the final NOX SIP call. The final NOX SIP call provided the opportunity for comments on 2007 baseline sub-inventory revisions. If data submitted by commenters were determined to be technically justified, the State baseline inventory and budgets for the NOX SIP call would be revised to include the new data. In response to the comments received during this comment period, revised baseline inventories and budgets were published in the May 14, 1999 technical amendment (64 FR 26298).

The EPA is proceeding to final action now on a second technical amendment based on further comments received from the public in response to the SIP call and the request for comments on inventory revisions as well as the May 14, 1999 technical amendment. The final NOX SIP call required that the SIPs be submitted by September 30, 1999 and the controls be implemented by May 1, 2003. On May 25, 1999, the courts granted a stay on the SIP submittal date of September 30, 1999. However, we are moving forward with these corrections because some States are voluntarily submitting SIPs as soon as they can incorporate the new emissions inventory and statewide budget numbers. Also, today's changes are necessary to make the NOX SIP Call inventory consistent with the inventory adopted when EPA granted Section 126 petitions on December 17, 1999. The NOX SIP Call and the Section 126 petitions are to be based on the same inventory. To the extent relevant, the corrections contained in today's action have already been incorporated in the section 126 inventory.

To the extent the Administrative Procedure Act might require publication of an additional notice of proposed rulemaking for this action, EPA finds good cause to dispense with such a proposal. The EPA finds it would be contrary to the public interest, because a number of States are proceeding with revisions to their SIPs that are dependent upon finalization of these inventories. Any delay in finalizing these inventories would require States to delay submitting their SIP revisions and therefore could delay emissions reductions that would be realized as a result of these SIP revisions. Furthermore, EPA has already provided a sufficient opportunity for public comment on the inventory issues (5 U.S.C. 553(b)(B)) through the prior comment period on the SIP call and the first technical amendment.

I. Changes to the Inventory

Subsequent to the publication of the May 14, 1999 technical amendment revising the emission budgets for the NOX SIP call, a number of commenters raised concerns about EPA's interpretation of their comments. In addition, new information was also submitted by commenters after May 14, 1999. Further, EPA conducted a thorough review of all the comments received regarding the May 14 technical amendment. This was done in an attempt to identify other mistakes made in incorporating the revision requests. The Agency modified the base inventories and budget calculations in areas where these reviews uncovered incorporation errors or where new data was found to be technically valid.

As part of the above review, EPA became aware of an error common to many stationary reciprocating internal combustion (IC) engines in several States. The error generally occurred because the permits issued to the sources used only one point and stack identification number for each of several engines located at one site; i.e., individual engines at one site that were permitted together received the same identification number. Then, in calculating the total emissions from that source, the inventory resulted in identifying the source incorrectly as a large source instead of several small sources with separate emission points.

In some cases, this common error was noted by individual companies during the original comment period for the NOX SIP call. In the process of making the corrections described above, EPA also made minor corrections to the IC engine inventory based on further discussions with the industry and where concurrence of the relevant State agency was obtained.

In addition, on August 9, 1999, (64 FR 43124) EPA issued a Notice of Data Availability seeking comment on heat input and electrical output data that could be used to allocate NOX allowances under a Federal NOX Budget Trading Program. EPA received a number of comments on that Notice that have also lead to review of earlier comments submitted by those commenters. In some cases this review has led to changes in the electricity generating unit (EGU) and non-electricity generating unit (non-EGU) portions of the budget.

II. Changes to Statewide Sub-Inventory Sector NOX Emissions Budgets

Changes to the Statewide NOX emissions budgets made in this technical amendment are mainly in response to the comments submitted during prior comment periods for the NOX SIP call and the May 14, 1999 technical amendment. Each of the sub-inventory sectors of electricity generating unit (EGU), non-electricity generating unit(non-EGU) point, area, nonroad mobile, and highway mobile were commented on and affected to some extent by this EPA action. The changes made in each sub-inventory sector are further described below. The total emissions budget for all of the sub-inventory sectors decreased less than 1 percent from the May 14, 1999 technical amendment to this action.

As a result of these revisions, EPA anticipates that full implementation of the NOX SIP call will reduce total NOX emissions by 1.111 million tons in the 2007 ozone season. This is a slight decrease from the 1.157 million tons in total NOX reductions identified in the final NOX SIP call. The total overall percent reduction decreased slightly from 28 percent to 25 percent as a result of the smaller amount of emissions reductions and an increase in the emissions inventory baseline. Even though there was a slight increase in the overall NOX emissions inventory, EPA expects that the impact on air quality benefits and cost effectiveness would be small because the emissions changes are minor.

The EGU source budgets increased by less than 1 percent from the final SIP call. A number of EGU point source units were reclassified to the non-EGU source sector and some non-EGU sources were reclassified to the EGU source sector. Further, in response to comments, the EGU budget also adds previously unidentified EGUs. Overall, the emissions reductions from this sector are similar to the emissions reductions of the final NOX SIP call.

On September 15, 1999, EPA took a direct final rulemaking (64 FR 49987) action modifying the EGU portions of the budget for the States of Connecticut, Massachusetts and Rhode Island. On November 1, 1999, after receiving adverse comment, EPA withdrew that final action (64 FR 58792).

Therefore, today's action does not include the modifications to the budgets for those three States that were finalized on September 15, 1999. EPA is reviewing the comments received on that action and intends to address them in a future rulemaking action. As explained in the September 15, 1999 action, such an action would be a redistribution of the budget among the three States and would have no affect on the budget or compliance supplement pool for any other states.

The non-EGU source budgets increased by 13 percent from the final NOX SIP call for several reasons. First, many sources were reclassified from large non-EGUs to small non-EGUs, thereby removing them from the category of non-EGU sources requiring budget level controls (i.e., 30 percent reduction from large cement kilns, 60 percent reduction from large industrial boilers and large gas turbines, and 90 percent reduction from large IC engines). Second, some non-EGU units for which EPA assumed controls were reclassified to categories for which controls were not assumed; this reclassification results in excluding them from budget level controls (e.g., large industrial boiler reclassified as a glass manufacturer). Many State and local agencies submitted revised non-EGU point source inventories which replaced their final NOX SIP call inventory for non-EGUs. A number of non-EGU point source units were reclassified to the EGU source sector and a number of EGU sources were reclassified to the non-EGU source sector. The result of all of these reclassifications is that fewer non-EGUs would be subject to EPA's assumed control strategy. Finally, corrections to the growth rates of many non-EGU sources were made to reflect the growth misapplied in the May 14, 1999 version of the budget. Because the 2007 base budget increased, but the total number of units that would be subject to controls under EPA's assumed control strategy decreased, these changes lower the amount of emissions expected to be reduced by the NOX SIP call by 44,072 tons.

Changes in the stationary area source budgets resulted in an increase of 10 percent from the final NOX SIP call to that portion of the budget. Some State and local agencies submitted revised stationary area source inventories to replace their final NOX SIP call inventory. In addition, EPA is applying a more consistent method for calculating ozone season emissions based on typical ozone season daily emissions. To retain consistency in State ozone season estimation methods, EPA is estimating seasonal emissions budgets by multiplying the typical ozone season day emission value by the number of days (153) in the ozone season. Since EPA does not apply any controls to this source sector in calculating the reductions for the final NOX SIP call, there is no expected effect on the overall reduction due to these changes.

Changes in the nonroad mobile source budget resulted in an overall increase of 15 percent to the nonroad mobile source budget from the nonroad source budget in the final NOX SIP call. The EPA applied the same ozone season estimation methods change described above for stationary area sources to the nonroad mobile source budget. Several State and local agencies provided emissions growth and control data for use in estimating the nonroad sector of the budgets. Since EPA did not apply any controls to this source sector in calculating the reductions for the final NOX SIP call, there is no expected affect on the overall reduction due to these changes.

Changes in the highway mobile source sector resulted in a 10 percent increase to the highway mobile source budget from the final NOX SIP call budget. Differences in the highway sector of the State emissions budgets are in response to State and local agency comments on vehicle miles traveled (VMT), VMT growth, vehicle mix throughout the State, State-to-county level VMT allocations, speed changes by vehicle and roadway type, and inspection and maintenance program application, as well as EPA's inclusion of excess NOX emissions from the use of “defeat devices” on highway heavy-duty diesel engines. This latter effect is discussed more fully in the following section. Since EPA did not apply any controls to this source sector in calculating the reductions for the final NOX SIP call, there is no expected effect on the overall reduction due to these changes.

Neither overall size of the compliance supplement pool, nor the methodology for distributing the compliance supplement pool has changed as a result of this rulemaking. Consistent with the final SIP Call, EPA has distributed the compliance supplement pool based on a State's share of the overall emissions reductions required. Therefore, if the inventory revisions contained in this final rule resulted in a decrease in any State's share of the overall emission reductions required by the SIP call, then there is a corresponding decrease in that State's compliance supplement pool. Conversely, if any of the inventory revisions resulted in an increase in a State's share of the overall emissions reductions required, then the State would receive a larger share of the 200,000 ton compliance supplement pool.

III. Heavy-Duty Diesel Emission Estimates

The final NOX budget numbers EPA is presenting today, include corrected estimates for the effects of excess NOX emissions from highway heavy-duty diesel engines with “defeat devices.” These diesel engines use computer software that cause the effectiveness of the engines' emission control systems to be reduced. In essence, the computer software alters the fuel injection timing when the engine operates in certain modes (such as highway driving), causing the engine to emit higher levels of NOX than indicated by their certification standards or by EPA's existing emission models. The EPA believes that the emissions impact of defeat devices peaked in the late 1990s and subsequently will decline rapidly as newer engines replace defeat device-equipped engines and as manufacturers undertake the mitigation commitments required under the consent decrees reached with the manufacturers of highway heavy-duty diesel engines equipped with defeat devices.

As of July 1, 1999, these consent decrees have become final. The consent decrees commit the manufacturers to reduce emissions from their engines and cease equipping them with defeat devices according to an agreed-upon schedule, and to take steps to mitigate the emissions effects of existing engines equipped with defeat devices. These mitigation commitments include the early introduction of heavy-duty diesel engines that will meet the more stringent NOX standards scheduled to take effect in 2004, rebuilding existing diesel engines to meet more stringent standards, and accelerating the introduction of lower-emitting nonroad diesel engines. Additional information regarding the defeat device consent decrees can be found in “Notices of Filing of Consent Decree under the Clean Air Act” (63 FR 59330-59334, November 3, 1998). Additional information about defeat devices and their emissions effects can be obtained from the U.S. EPA's Office of Mobile Sources by contacting the Engine Compliance Programs Group at (202) 564-9240 and requesting document VPCD-98-13 (HD Engine), dated October 15, 1998.

In the May 14, 1999 technical amendment, EPA presented updated estimates of NOX emissions from heavy-duty diesel engines that included the added emissions due to defeat devices and also accounted for the early introduction of engines that meet the 2004 highway heavy-duty diesel engine standards, as specified by the proposed consent decrees reached with the manufacturers of diesel engines equipped with these devices. Since the consent decrees became final, we have improved our estimates of the impact of defeat devices and the mitigation measures contained in the consent decrees. These improved estimates reflect the rebuild provisions of the consent decrees and more accurately account for the effects of defeat devices and the early introduction of engines meeting the 2004 standards. The final baseline NOX emission projections and NOX budgets presented in this notice include these improved estimates.

The EPA is including revised estimates of the effects of defeat devices in this technical amendment even though they were not available at the time of our proposal, for the final NOX SIP call, or for the May 14, 1999 technical amendment (note that as explained above, the May 14, 1999 technical amendment did include the best estimates that EPA had at that time of the effect of the defeat devices). The EPA finds good cause to use this information without prior proposal. Comment would be unnecessary, since EPA will be including the effects of the defeat devices in both the calculation of the baseline inventories and the establishment of the SIP call budgets. Because the effects of the defeat devices will be included in both the baseline and the emission levels that must be achieved, inclusion of the effects will not alter the obligations that the affected States must meet to comply with the SIP call. The result of this change does not alter the tons of NOX reductions that the States must achieve, nor does it change the type of controls States are expected to select to reduce NOX emissions. This change will more accurately reflect EPA's current understanding of emissions from highway mobile sources and the provisions of the final consent decrees. Therefore, EPA finds good cause to include these effects in this final action.

As described above, including the emissions due to defeat devices in the statewide NOX emissions budgets will not, by itself, alter the emissions reductions that will result from the final NOX SIP call, because the change in baseline and budget amounts is identical. The change in NOX budgets varies from State to State but averages approximately 3.5 percent across the entire 37-State Ozone Transport Assessment Group (OTAG) domain, which EPA believes approximates the increase in the States covered by the final NOX SIP call. The EPA does not believe this change is sufficiently large to alter the conclusions regarding significant contribution or estimates of the overall benefits of the rule, although it may alter the projected benefits of the rule in specific locations.

IV. Revised Statewide NOX Emissions Budgets

The final percent reductions from the final October 1999 base year inventory to the final February 18, 2000 budget for each sub-inventory sector are shown in Tables 1-5. The February 18, 2000 final statewide emissions budgets are shown in Table 6. Table 7 shows the percent change between the statewide NOX emissions budgets promulgated on May 14, 1999 and the revised final statewide NOX emissions budgets of February 18, 2000. Table 8 shows each State's final compliance supplement pool.

Table 1.—Final NOX Budget Components and Percent Reduction for Electricity Generating Units
[Tons/season]
State | February 18, 2000—final base | February 18, 2000—final budget | Percent reduction
Alabama | 76,926 | 29,022 | 62
Connecticut | 5,636 | 2,652 | 53
Delaware | 5,838 | 5,250 | 10
District of Columbia | 3 | 207 | n/a
Georgia | 86,455 | 30,402 | 65
Illinois | 119,311 | 32,372 | 73
Indiana | 136,773 | 47,731 | 65
Kentucky | 107,829 | 36,503 | 66
Maryland | 32,603 | 14,656 | 55
Massachusetts | 16,479 | 15,146 | 8
Michigan | 86,600 | 32,228 | 63
Missouri | 82,097 | 24,216 | 71
New Jersey | 18,352 | 10,250 | 44
New York | 39,199 | 31,036 | 21
North Carolina | 84,815 | 31,821 | 62
Ohio | 163,132 | 48,990 | 70
Pennsylvania | 123,102 | 47,469 | 61
Rhode Island | 1,082 | 997 | 8
South Carolina | 36,299 | 16,772 | 54
Tennessee | 70,908 | 25,814 | 64
Virginia | 40,884 | 17,187 | 58
West Virginia | 115,490 | 26,859 | 77
Wisconsin | 51,962 | 17,381 | 67
Total | 1,501,775 | 544,961 | 64

Table 2.—Final NOX Budget Components and Percent Reduction for Non-Electricity Generating Point Sources
[Tons/season]
State | February 18, 2000—final base | February 18, 2000—final budget | Percent reduction
Alabama | 60,465 | 43,415 | 28
Connecticut | 5,397 | 5,216 | 3
Delaware | 2,821 | 2,473 | 12
District of Columbia | 300 | 282 | 6
Georgia | 37,245 | 29,716 | 20
Illinois | 70,948 | 59,577 | 16
Indiana | 69,011 | 47,363 | 31
Kentucky | 29,486 | 25,669 | 13
Maryland | 16,216 | 12,585 | 22
Massachusetts | 11,210 | 10,298 | 8
Michigan | 68,801 | 60,055 | 13
Missouri | 25,964 | 21,602 | 17
New Jersey | 15,975 | 15,464 | 3
New York | 32,678 | 25,477 | 22
North Carolina | 33,114 | 26,434 | 20
Ohio | 50,001 | 40,194 | 20
Pennsylvania | 82,107 | 70,132 | 15
Rhode Island | 1,635 | 1,635 | 0
South Carolina | 37,960 | 27,787 | 27
Tennessee | 53,262 | 39,636 | 26
Virginia | 42,108 | 35,216 | 16
West Virginia | 24,473 | 20,238 | 17
Wisconsin | 23,734 | 19,853 | 16
Total | 794,911 | 640,317 | 19

Table 3.—Final NOX Budget Components for Stationary Area Sources
[Tons/season]
State | February 18, 2000—final base | February 18, 2000—final budget | Percent reduction
Alabama | 28,762 | 28,762 | 0
Connecticut | 4,821 | 4,821 | 0
Delaware | 1,129 | 1,129 | 0
District of Columbia | 830 | 830 | 0
Georgia | 13,212 | 13,212 | 0
Illinois | 9,369 | 9,369 | 0
Indiana | 29,070 | 29,070 | 0
Kentucky | 31,807 | 31,807 | 0
Maryland | 4,448 | 4,448 | 0
Massachusetts | 11,048 | 11,048 | 0
Michigan | 31,721 | 31,721 | 0
Missouri | 7,341 | 7,341 | 0
New Jersey | 12,431 | 12,431 | 0
New York | 17,423 | 17,423 | 0
North Carolina | 11,067 | 11,067 | 0
Ohio | 21,860 | 21,860 | 0
Pennsylvania | 17,842 | 17,842 | 0
Rhode Island | 448 | 448 | 0
South Carolina | 9,415 | 9,415 | 0
Tennessee | 13,333 | 13,333 | 0
Virginia | 27,738 | 27,738 | 0
West Virginia | 5,459 | 5,459 | 0
Wisconsin | 11,253 | 11,253 | 0
Total | 321,827 | 321,827 | 0

Table 4.—Final NOX Budget Components for Nonroad Mobile Sources
[Tons/season]
State | February 18, 2000—final base | February 18, 2000—final budget | Percent reduction
Alabama | 20,146 | 20,146 | 0
Connecticut | 10,736 | 10,736 | 0
Delaware | 5,651 | 5,651 | 0
District of Columbia | 3,135 | 3,135 | 0
Georgia | 26,467 | 26,467 | 0
Illinois | 56,724 | 56,724 | 0
Indiana | 26,494 | 26,494 | 0
Kentucky | 15,025 | 15,025 | 0
Maryland | 20,026 | 20,026 | 0
Massachusetts | 20,166 | 20,166 | 0
Michigan | 26,935 | 26,935 | 0
Missouri | 20,829 | 20,829 | 0
New Jersey | 23,565 | 23,565 | 0
New York | 42,091 | 42,091 | 0
North Carolina | 22,005 | 22,005 | 0
Ohio | 43,380 | 43,380 | 0
Pennsylvania | 30,571 | 30,571 | 0
Rhode Island | 2,455 | 2,455 | 0
South Carolina | 14,637 | 14,637 | 0
Tennessee | 52,920 | 52,920 | 0
Virginia | 27,859 | 27,859 | 0
West Virginia | 10,433 | 10,433 | 0
Wisconsin | 17,965 | 17,965 | 0
Total | 540,215 | 540,215 | 0

Table 5.—Final NOX Budget Components for Highway Mobile Sources
[Tons/season]
State | February 18, 2000—final base | February 18, 2000—final budget | Percent reduction
Alabama | 51,274 | 51,274 | 0
Connecticut | 19,424 | 19,424 | 0
Delaware | 8,358 | 8,358 | 0
District of Columbia | 2,204 | 2,204 | 0
Georgia | 88,775 | 88,775 | 0
Illinois | 112,518 | 112,518 | 0
Indiana | 79,307 | 79,307 | 0
Kentucky | 53,268 | 53,268 | 0
Maryland | 30,183 | 30,183 | 0
Massachusetts | 28,190 | 28,190 | 0
Michigan | 78,763 | 78,763 | 0
Missouri | 51,615 | 51,615 | 0
New Jersey | 35,166 | 35,166 | 0
New York | 124,2611 | 124,261 | 0
North Carolina | 73,695 | 73,695 | 0
Ohio | 94,850 | 94,850 | 0
Pennsylvania | 91,578 | 91,578 | 0
Rhode Island | 3,843 | 3,843 | 0
South Carolina | 54,494 | 54,494 | 0
Tennessee | 66,342 | 66,342 | 0
Virginia | 72,195 | 72,195 | 0
West Virginia | 20,844 | 20,844 | 0
Wisconsin | 69,319 | 69,319 | 0
Total | 1,310,466 | 1,310,466 | 0

Table 6.—February 18, 2000 Final Statewide NOX Budgets and Percent Reduction
[Tons/season]
State | February 18, 2000—final base | February 18, 2000—final budget | Tons reduced | Percent reduction
Alabama | 237,573 | 172,619 | 64,954 | 27
Connecticut | 46,015 | 42,849 | 3,166 | 7
Delaware | 23,798 | 22,861 | 937 | 4
District of Columbia | 6,471 | 6,658 | −187 | −3
Georgia | 252,154 | 188,572 | 63,582 | 25
Illinois | 368,870 | 270,560 | 98,310 | 27
Indiana | 340,654 | 229,965 | 110,689 | 32
Kentucky | 237,415 | 162,272 | 75,143 | 32
Maryland | 103,476 | 81,898 | 21,578 | 21
Massachusetts | 87,092 | 84,848 | 2,244 | 3
Michigan | 292,820 | 229,702 | 63,118 | 22
Missouri | 187,845 | 125,603 | 62,242 | 33
New Jersey | 105,489 | 96,876 | 8,613 | 8
New York | 255,653 | 240,288 | 15,365 | 6
North Carolina | 224,697 | 165,022 | 59,675 | 27
Ohio | 373,223 | 249,274 | 123,949 | 33
Pennsylvania | 345,201 | 257,592 | 87,609 | 25
Rhode Island | 9,463 | 9,378 | 85 | 1
South Carolina | 152,805 | 123,105 | 29,700 | 19
Tennessee | 256,765 | 198,045 | 58,720 | 23
Virginia | 210,784 | 180,195 | 30,589 | 15
West Virginia | 176,699 | 83,833 | 92,866 | 53
Wisconsin | 174,234 | 135,771 | 38,463 | 22
Total | 4,469,196 | 3,357,786 | 1,111,410 | 25

Table 7.—Percent Changes Between May 14, 1999 Budgets and February 18, 2000 Budgets
[Tons/season]
State | 5/14/99—total 2007 budget | 2/18/00—total 2007 budget | Percent change
Alabama | 172,037 | 172,619 | 0
Connecticut | 43,081 | 42,849 | −1
Delaware | 22,789 | 22,861 | 0
District of Columbia | 6,672 | 6,658 | 0
Georgia | 189,634 | 188,572 | −1
Illinois | 274,799 | 270,560 | −2
Indiana | 238,970 | 229,965 | −4
Kentucky | 155,619 | 162,272 | 4
Maryland | 81,625 | 81,898 | 0
Massachusetts | 85,296 | 84,848 | −1
Michigan | 224,582 | 229,702 | 2
Missouri | 128,146 | 125,603 | −2
New Jersey | 100,133 | 96,876 | −3
New York | 240,123 | 240,288 | 0
North Carolina | 168,373 | 165,022 | −2
Ohio | 250,930 | 249,274 | −1
Pennsylvania | 257,441 | 257,592 | 0
Rhode Island | 9,810 | 9,378 | −4
South Carolina | 124,211 | 123,105 | −1
Tennessee | 197,664 | 198,045 | 0
Virginia | 185,027 | 180,195 | −3
West Virginia | 91,216 | 83,833 | −8
Wisconsin | 136,172 | 135,771 | 0
Total | 3,384,350 | 3,357,786 | −1

Table 8.—State Compliance Supplement Pool
[Tons]
State | February 18, 2000—final base | February 18, 2000—final budget | Tonnage reduction | Compliance supplement pool
Alabama | 237,573 | 172,619 | 64,954 | 11,687
Connecticut | 46,015 | 42,849 | 3,166 | 569
Delaware | 23,798 | 22,861 | 937 | 168
District of Columbia | 6,471 | 6,658 | (187) | 0
Georgia | 252,154 | 188,572 | 63,582 | 11,440
Illinois | 368,870 | 270,560 | 98,310 | 17,688
Indiana | 340,654 | 229,965 | 110,689 | 19,915
Kentucky | 237,415 | 162,272 | 75,143 | 13,520
Maryland | 103,476 | 81,898 | 21,578 | 3,882
Massachusetts | 87,092 | 84,848 | 2,244 | 404
Michigan | 292,820 | 229,702 | 63,118 | 11,356
Missouri | 187,845 | 125,603 | 62,242 | 11,199
New Jersey | 105,489 | 96,876 | 8,613 | 1,550
New York | 255,653 | 240,288 | 15,365 | 2,764
North Carolina | 224,697 | 165,022 | 59,675 | 10,737
Ohio | 373,223 | 249,274 | 123,949 | 22,301
Pennsylvania | 345,201 | 257,592 | 87,609 | 15,763
Rhode Island | 9,463 | 9,378 | 85 | 15
South Carolina | 152,805 | 123,105 | 29,700 | 5,344
Tennessee | 256,765 | 198,045 | 58,720 | 10,565
Virginia | 210,784 | 180,195 | 30,589 | 5,504
West Virginia | 176,699 | 83,833 | 92,866 | 16,709
Wisconsin | 174,234 | 135,771 | 38,463 | 6,920
Total | 4,469,196 | 3,357,786 | 1,111,410 | 200,000

V. Administrative Requirements

A. Congressional Review Act

The Congressional Review Act, 5 U.S.C. 804 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the U.S. prior to publication of the rule in the Federal Register. This rule is not a “major rule” as defined by 5 U.S.C. 804(2).

B. Executive Order 12866: Regulatory Impact Analysis

Under Executive Order 12866, (58 FR 51735, October 4, 1993), this technical amendment is not a “significant regulatory action” and is therefore not subject to review by the Office of Management and Budget (OMB) because this action simply revises the emissions budget numbers of the NOX SIP call final rule. The final NOX SIP call was submitted to OMB for review. The EPA prepared a regulatory impact analysis (RIA) for the final NOX SIP call titled “Regulatory Impact Analysis for the NOX SIP Call, FIP, and Section 126 Petitions.” The RIA and any written comments from OMB to EPA and any written EPA responses to those comments are included in the docket. The docket is available for public inspection at the EPA's Air Docket Section, which is listed in the ADDRESSES section of this preamble. This technical amendment does not create any additional impacts beyond what was promulgated in the final NOX SIP call, therefore, no additional RIA is needed.

C. Unfunded Mandates Reform Act

This technical amendment also does not impose any additional enforceable duty, contain any unfunded mandate, or impose any significant or unique impact on small governments as described in the Unfunded Mandates Reform Act of 1995 (UMRA) (Public Law 104-4). The EPA did not reach a final conclusion as to the applicability of the requirements of the UMRA to the final NOX SIP call. The EPA prepared a statement that would be required by UMRA if its statutory provisions applied and has consulted with governmental entities as would be required by UMRA. Because today's technical amendment does not create any additional mandates, no further UMRA analysis is needed.

D. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under Section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law, unless the Agency consults with State and local officials early in the process of developing the proposed regulation.

This final rule does not have federalism implications. It will not have substantial direct effects on the States, on the relationship between the national government and the States, or on the distribution of power and responsibilities among the various levels of government, as specified in Executive Order 13132. Today's action does not impose an enforceable duty on these entities. This action corrects the emissions inventory and statewide budgets for the NOX SIP call and imposes no additional burdens beyond those imposed by the final NOX SIP call. These corrections were made in response to comments received on the NOX SIP call and the May 14, 1999 technical correction. Thus, the requirements of section 6 of the Executive Order do not apply to this rule.

E. Executive Order 13084: Consultation and Coordination with Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. The EPA stated in the final NOX SIP call that Executive Order 13084 did not apply because the final rule does not significantly or uniquely affect the communities of Indian tribal governments or call on States to regulate NOX sources located on tribal lands. Accordingly, the requirements of section 3(b) of Executive Order 13084 do not apply to this rule.

F. Executive Order 12898: Environmental Justice

In addition, since today's action is only a technical amendment, this action does not involve special consideration of environmental justice related issues as required by Executive Order 12898 (59 FR 7629, February 16, 1994). For the final NOX SIP call, the Agency conducted a general analysis of the potential changes in ozone and particulate matter levels that may be experienced by minority and low-income populations as a result of the requirements of the rule. These findings are presented in the RIA.

G. Regulatory Flexibility Act (RFA), as amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business as defined in the Small Business Administration's (SBA) regulations at 13 CFR 12.201; (2) a small governmental jurisdiction that is a government of a city, county, town, school district or special district with a population of less than 50,000; and (3) a small organization that is any not-for-profit enterprise which is independently owned and operated and is not dominant in its field.

After considering the economic impacts of today's technical amendment on small entities, I certify that this action will not have a significant economic impact on a substantial number of small entities.

This technical amendment will not impose any requirements on small entities. This action corrects the emissions inventory and statewide budgets for the NOX SIP call and does not itself establish requirements applicable to small entities.

H. Executive Order 13045: Protection of Children from Environmental Health Risks and Safety Risks

This technical amendment also is not subject to Executive Order 13045 (Protection of Children from Environmental Health Risks and Safety Risks) (62 FR 19885, April 23, 1997) because EPA interprets Executive Order 13045 as applying only to those regulatory actions that are based on health or safety risks, such that the analysis required under section 5-501 of the Order has the potential to influence the regulation. This technical amendment is not subject to Executive Order 13045 because it does not establish an environmental standard intended to mitigate health or safety risks and is not economically significant under Executive Order 12866.

I. National Technology Transfer and Advancement Act

In addition, the National Technology Transfer and Advancement Act of 1997 does not apply because today's technical amendment does not require the public to perform activities conducive to the use of voluntary consensus standards under that Act. The EPA's compliance with these statutes and Executive Orders for the underlying rule, the final NOX SIP call, is discussed in more detail in 63 FR 57477-57481 (October 27, 1998).

J. Judicial Review

Section 307(b)(1) of the Clean Air Act (CAA) indicates which Federal Courts of Appeal have venue for petitions of review of final actions by EPA. This section provides, in part, that petitions for review must be filed in the Court of Appeals for the District of Columbia Circuit if (i) the agency action consists of “nationally applicable regulations promulgated, or final action taken, by the Administrator,” or (ii) such action is locally or regionally applicable, if “such action is based on a determination of nationwide scope or effect and if in taking such action the Administrator finds and publishes that such action is based on such a determination.”

Any final action related to the NOX SIP call is “nationally applicable” within the meaning of section 307(b)(1). As an initial matter, through this rule, EPA interprets section 110 of the CAA in a way that could affect future actions regulating the transport of pollutants. In addition, the NOX SIP call requires 22 States and the District of Columbia to decrease emissions of NOX. The NOX SIP call also is based on a common core of factual findings and analyses concerning the transport of ozone and its precursors between the different States subject to the NOX SIP call. Finally, EPA has established uniform approvability criteria that would be applied to all States subject to the NOX SIP call. For these reasons, the Administrator has also determined that any final action regarding the NOX SIP call is of nationwide scope and effect for purposes of section 307(b)(1). Thus, any petitions for review of final actions regarding the NOX SIP call must be filed in the Court of Appeals for the District of Columbia Circuit within 60 days from the date this final action is published in the Federal Register.

K. Paperwork Reduction Act

The EPA stated in the final NOX SIP call that an information collection request was pending. Today's action imposes no additional burdens beyond those imposed by the final NOX SIP call. Any issues relevant to satisfaction of the requirements of the Paperwork Reduction Act will be resolved during review and approval of the pending information collection request for the NOX SIP call.

List of Subjects in 40 CFR Part 51

Environmental protection, Administrative practice and procedure, Air pollution control, Carbon monoxide, Intergovernmental relations, Nitrogen dioxide, Ozone, Particulate matter, Reporting and recordkeeping requirements, Sulfur oxides, Transportation, Volatile organic compounds.

Dated: February 18, 2000.
Carol M. Browner,
Administrator.

40 CFR part 51 is amended as follows:

PART 51—REQUIREMENTS FOR PREPARATION, ADOPTION, AND SUBMITTAL OF IMPLEMENTATION PLANS

1. The authority citation for part 51 continues to read as follows:

Authority: 42 U.S.C. 7410, 7414, 7421, 7470-7479, 7491, 7492, 7601, and 7602.

Subpart G—Control Strategy [Amended]

2. Section 51.121 is amended to revise paragraphs (e)(2), (e)(3)(iii), and (g)(2)(ii) to read as follows:

§ 51.121 Findings and requirements for submission of State implementation plan revisions relating to emissions of oxides of nitrogen.

* * * * *

(e) * * *

(2) The State-by-State amounts of the NOX budget, expressed in tons per ozone season, are as follows:

State | Budget
Alabama | 172,619
Connecticut | 42,849
Delaware | 22,861
District of Columbia | 6,658
Georgia | 188,572
Illinois | 270,560
Indiana | 229,965
Kentucky | 162,272
Maryland | 81,898
Massachusetts | 84,848
Michigan | 229,702
Missouri | 125,603
New Jersey | 96,876
New York | 240,288
North Carolina | 165,022
Ohio | 249,274
Pennsylvania | 257,592
Rhode Island | 9,378
South Carolina | 123,105
Tennessee | 198,045
Virginia | 180,195
West Virginia | 83,833
Wisconsin | 135,771
Total | 3,357,786

(3) * * *

(iii) The State-by-State amounts of the compliance supplement pool are as follows:

State | Compliance supplement pool (tons of NOX)
Alabama | 11,687
Connecticut | 569
Delaware | 168
District of Columbia | 0
Georgia | 11,440
Illinois | 17,688
Indiana | 19,915
Kentucky | 13,520
Maryland | 3,882
Massachusetts | 404
Michigan | 11,356
Missouri | 11,199
New Jersey | 1,550
New York | 2,764
North Carolina | 10,737
Ohio | 22,301
Pennsylvania | 15,763
Rhode Island | 15
South Carolina | 5,344
Tennessee | 10,565
Virginia | 5,504
West Virginia | 16,709
Wisconsin | 6,920
Total | 200,000

* * * * *

(g) * * *

(2) * * *

(ii) The revised NOX emissions sub-inventories for each State, expressed in tons per ozone season, are as follows:

State | EGU | Non-EGU | Area | Nonroad | Highway | Total
Alabama | 29,022 | 43,415 | 28,762 | 20,146 | 51,274 | 172,619
Connecticut | 2,652 | 5,216 | 4,821 | 10,736 | 19,424 | 42,849
Delaware | 5,250 | 2,473 | 1,129 | 5,651 | 8,358 | 22,861
District of Columbia | 207 | 282 | 830 | 3,135 | 2,204 | 6,658
Georgia | 30,402 | 29,716 | 13,212 | 26,467 | 88,775 | 188,572
Illinois | 32,372 | 59,577 | 9,369 | 56,724 | 112,518 | 270,560
Indiana | 47,731 | 47,363 | 29,070 | 26,494 | 79,307 | 229,965
Kentucky | 36,503 | 25,669 | 31,807 | 15,025 | 53,268 | 162,272
Maryland | 14,656 | 12,585 | 4,448 | 20,026 | 30,183 | 81,898
Massachusetts | 15,146 | 10,298 | 11,048 | 20,166 | 28,190 | 84,848
Michigan | 32,228 | 60,055 | 31,721 | 26,935 | 78,763 | 229,702
Missouri | 24,216 | 21,602 | 7,341 | 20,829 | 51,615 | 125,603
New Jersey | 10,250 | 15,464 | 12,431 | 23,565 | 35,166 | 96,876
New York | 31,036 | 25,477 | 17,423 | 42,091 | 124,261 | 240,288
North Carolina | 31,821 | 26,434 | 11,067 | 22,005 | 73,695 | 165,022
Ohio | 48,990 | 40,194 | 21,860 | 43,380 | 94,850 | 249,274
Pennsylvania | 47,469 | 70,132 | 17,842 | 30,571 | 91,578 | 257,592
Rhode Island | 997 | 1,635 | 448 | 2,455 | 3,843 | 9,378
South Carolina | 16,772 | 27,787 | 9,415 | 14,637 | 54,494 | 123,105
Tennessee | 25,814 | 39,636 | 13,333 | 52,920 | 66,342 | 198,045
Virginia | 17,187 | 35,216 | 27,738 | 27,859 | 72,195 | 180,195
West Virginia | 26,859 | 20,238 | 5,459 | 10,433 | 20,844 | 83,833
Wisconsin | 17,381 | 19,853 | 11,253 | 17,965 | 69,319 | 135,771
Total | 544,961 | 640,317 | 321,827 | 540,215 | 1,310,466 | 3,357,786
Note to paragraph (g)(2)(ii): Totals may not sum due to rounding.

* * * * *

[FR Doc. 00-4518 Filed 3-1-00; 8:45 am]

BILLING CODE 6560-50-p